DEPARTMENT OF COMMERCE

International Trade Administration

[A-588-826]

Corrosion-Resistant Carbon Steel Flat Products From Japan; Preliminary Results of Sunset Review of Antidumping Duty Order

AGENCY: Import Administration, International Trade Administration, Department of Commerce.

ACTION: Notice of preliminary results of full sunset review: Corrosion-resistant carbon steel flat products from Japan.

SUMMARY: On September 1, 1999, the Department of Commerce (“the Department”) initiated a sunset review of the antidumping duty order on corrosion-resistant carbon steel flat products from Japan (64 FR 47767) pursuant to section 751(c) of the Tariff Act of 1930, as amended (“the Act”). On the basis of a notice of intent to participate filed on behalf of domestic interested parties and adequate substantive responses filed on behalf of domestic and respondent interested parties, the Department determined to conduct a full review. As a result of this review, the Department preliminarily finds that revocation of the antidumping duty order would likely lead to continuation or recurrence of dumping at the levels indicated in the Preliminary Results of Review section of this notice.

EFFECTIVE DATE: March 27, 2000.

FOR FURTHER INFORMATION CONTACT: Kathryn B. McCormick or Melissa G. Skinner, Office of Policy for Import Administration, International Trade Administration, U.S. Department of Commerce, 14th Street and Constitution Avenue, NW., Washington, DC 20230; telephone: (202) 482-1930 or (202) 482-1560, respectively.

SUPPLEMENTARY INFORMATION:

Statute and Regulations

Unless otherwise indicated, all citations to the Act are references to the provisions effective January 1, 1995, the effective date of the amendments made to the Act by the Uruguay Round Agreements Act (“URAA”). In addition, unless otherwise indicated, all citations to the Department regulations are to 19 CFR part 351 (1999). Guidance on methodological or analytical issues relevant to the Department's conduct of sunset reviews is set forth in the Department's Policy Bulletin 98.3—Policies Regarding the Conduct of Five-year (“Sunset”) Reviews of Antidumping and Countervailing Duty Orders; Policy Bulletin, 63 FR 18871 (April 16, 1998) (“Sunset Policy Bulletin”).

Background

On September 1, 1999, the Department initiated a sunset review of the antidumping duty order on Japanese corrosion-resistant carbon steel flat products (64 FR 47767), pursuant to section 751(c) of the Act. The Department received a notice of intent to participate on behalf of the Bethlehem Steel Corporation and U.S. Steel Group, a unit of USX Corporation (“domestic interested parties”), within the applicable deadline (September 15, 1999) specified in section 351.218(d)(1)(i) of the Sunset Regulations. On October 1, 1999, respondent interested party Nippon Steel Corporation (“NSC”) notified the Department that it intended to participate in this review. Domestic interested parties claimed interested-party status under section 771(9)(C) of the Act, as the U.S. producers of a domestic like product; NSC is an interested party pursuant to section 771(9)(A) of the Act as a foreign producer and exporter of subject merchandise.

On September 24, 1999, we received a request for an extension to file rebuttal comments from domestic interested parties.¹ Pursuant to 19 CFR 351.302(b)(1999), the Department extended the deadline for all participants eligible to file rebuttal comments until October 15, 1999.² On October 1, 1999, we received a complete substantive response from domestic interested parties, within the 30-day deadline specified in the Sunset Regulations under section 351.218(d)(3)(i). On October 1, 1999, we received a complete substantive response from NSC. The Department received rebuttal comments from domestic interested parties and NSC, on October 15, 1999, and October 12, 1999, respectively. On October 20, 1999, pursuant to 19 CFR 351.218 (e)(2), the Department determined to conduct a full (240-day) sunset review of this order.³

¹ See September 24, 1999, Request for an Extension to File Rebuttal Comments in the Sunset Reviews of Antidumping and Countervailing Duty Orders: A-602-803; A-351-817; C-351-818, A-122-822, A-122-823, A-405-802, A-588-826, A-421-804, A-455-802, A-485-803, C-401-401, C-401-804, C-401-805, from Valerie S. Schindler, Skadden, Arps, Slate, Meagher & Flom LLP, to Jeffrey A. May, Office of Policy.

² See September 30, 1999, Letter from Jeffrey A. May, Director, Office of Policy to Valerie S. Schindler, Skadden, Arps, Slate, Meagher & Flom LLP.

³ See October 20, 1999, Memoranda for Jeffrey A. May, Re: Certain Corrosion-Resistant Carbon Steel Flat Products from Japan; Adequacy of Respondent Interested Party Response to the Notice of Initiation.

In accordance with section 751(c)(5)(C)(v) of the Act, the Department may treat a review as extraordinarily complicated if it is a review of a transition order (i.e., an order in effect on January 1, 1995). This review concerns a transition order within the meaning of section 751(c)(6)(C)(ii) of the Act. Accordingly, on December 22, 1999, the Department determined that the sunset review of corrosion-resistant carbon steel flat products from Japan is extraordinarily complicated, and extended the time limit for completion of the preliminary results of this review until not later than March 20, 2000, in accordance with section 751(c)(5)(B) of the Act.⁴

⁴ See Extension of Time Limit for Preliminary Results of Full Five-Year Reviews, 64 FR 71726 (December 22, 1999).

Scope of Order

These products include flat-rolled carbon steel products, of rectangular shape, either clad, plated, or coated with corrosion-resistant metals such as zinc, aluminum, or zinc-, aluminum-, nickel-or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or, if of a thickness of 4.75 millimeters or more, are of a width which exceeds 150 millimeters and measures at least twice the thickness.⁵ as currently classifiable in the Harmonized Tariff Schedule (“HTS”) under item numbers: 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090.

⁵ See Certain Corrosion-Resistant Carbon Steel Flat Products from Japan: Preliminary Results of Antidumping Duty Administrative Review, 64 FR 44483 (August 16, 1999).

Included in this order are flat-rolled products of non-rectangular cross-section where such cross-section is achieved subsequent to the rolling process (i.e., products which have been “worked after rolling”)—for example, products which have been bevelled or rounded at the edges.

Excluded from order are flat-rolled steel products either plated or coated with tin, lead, chromium, chromium oxides, both tin and lead (“terne plate”), or both chromium and chromium oxides (“tin-free steel”), whether or not painted, varnished or coated with plastics or other nonmetallic substances in addition to the metallic coating. Also excluded from these investigations are clad products in straight lengths of 0.1874 inch or more in composite thickness and of a width which exceeds 150 millimeters and measures at least twice the thickness. Also excluded are certain clad stainless flat-rolled products which are three-layered corrosion-resistant carbon steel flat-rolled products less than 4.74 millimeters in composite thickness that consist of a carbon steel flat-rolled product clad on both sides with stainless steel in a 20-60-20 percent ratio. The HTS item numbers are provided for convenience and Customs purposes. The written description remains dispositive.

Also excluded are certain corrosion-resistant carbon steel flat products meeting the following specifications: (1) Widths ranging from 10 millimeters (0.394 inches) through 100 millimeters (3.94 inches); (2) thicknesses, including coatings, ranging from 0.11 millimeters (0.004 inches) through 0.60 millimeters (0.024 inches); and (3) a coating that is from 0.003 millimeters (0.00012 inches) through 0.005 millimeters (0.000196 inches) in thickness and that is comprised of either two evenly applied layers, the first layer consisting of 99 percent zinc, 0.5 percent cobalt, and 0.5 percent molybdenum followed by a layer consisting of chromate, and finally, a layer consisting of silicate.

There have been three changed circumstances administrative reviews. On December 22, 1997, the Department published the final results of a changed circumstances review requested by Sudo Corporation.⁶ In this review, the Department revoked the antidumping duty order with regard to certain electrolytic zinc-coated steel coiled rolls from Japan.

⁶ See Certain Corrosion-Resistant Carbon Steel Flat Products from Japan: Final Results of Change Circumstances Antidumping Duty Administrative Review, and Revocation in Part of Antidumping Duty Order, 62 FR 66848 (December 22, 1997).

In the second changed circumstances review, requested by Uchiyama, the Department revoked the antidumping duty order with regard to certain corrosion-resistant carbon steel flat products used in the manufacture of rubber seals and metal inserts for ball bearings.⁷

⁷ See Certain Corrosion-Resistant Carbon Steel Flat Products from Japan: Final Results of Change Circumstances Antidumping Duty Administrative Review, and Revocation in Part of Antidumping Duty Order, 64 FR 14861 (March 29, 1999).

The Department completed a third changed circumstances review, requested by Taiho Corporation of America, in which it determined to revoke the order with respect to (1) certain products meeting the requirements of SAE standard 792 for Bearing and Bushing Alloys, and (2) certain products meeting the requirements of SAE standard 783 for Bearing and Bushing Alloys.⁸

⁸ See Certain Corrosion-Resistant Carbon Steel Flat Products from Japan: Final Results of Change Circumstances Antidumping Duty Administrative Review, and Revocation in Part of Antidumping Duty Order, 64 FR 57032 (October 22, 1999).

There has been one circumvention inquiry initiated regarding this proceeding. On October 30, 1998, the Department initiated an anticircumvention inquiry regarding boron-added corrosion-resistant carbon steel flat products from Japan.⁹ The inquiry was subsequently enjoined by the Court of International Trade in Nippon Steel v. United States, Ct. No. 98-10-03102 (Ct. Int'l Trade). The case is now pending before the Court of Appeals for the Federal Circuit, No. 99-1379, 1386 (Fed. Cir.).

⁹ See Corrosion-Resistant Carbon Steel Flat Products from Japan; Initiation of Anticircumvention Inquiry on Antidumping Duty Order, 63 FR 58364 (October 30, 1998).

The Department has conducted one scope ruling at the request of Drive Automotive Industries of America, Inc. (“Drive Automotive”). On February 24, 1998, the Department found that steel coils imported by Drive Automotive and having a thickness of 0.8 mm and a width of 2000 mm, electrolytically coated with zinc, were within the scope of the order (63 FR 29700, June 1, 1998).

Analysis of Comments Received

All issues raised in the case and rebuttal briefs by parties to this sunset review are addressed in the “Issues and Decision Memorandum” (“Decision Memo”) from Jeffrey A. May, Director, Office of Policy, Import Administration, to Robert S. La Russa, Assistant Secretary for Import Administration, dated March 20, 2000, which is hereby adopted and incorporated by reference into this notice. The issues discussed in the attached Decision Memo include the likelihood of continuation or recurrence of dumping and the magnitude of the margin likely to prevail were the order revoked. Parties can find a complete discussion of all issues raised in this review and the corresponding recommendations in this public memorandum which is on file in the Central Records Unit, room B-099, of the main Commerce building.

In addition, a complete version of the Decision Memo can be accessed directly on the Web at www.ita.doc.gov/import—admin/records/frn. The paper copy and electronic version of the Decision Memo are identical in content.

Preliminary Results of Review

We preliminarily determine that revocation of the antidumping duty order on corrosion-resistant carbon steel flat products from Japan would be likely to lead to continuation or recurrence of dumping at the following percentage weighted-average margins:

Manufacturer/exporters | Margin (percent)
Nippon Steel Corporation | 36.41
Kawasaki Steel Corporation | 36.41
All Others | 36.41

Any interested party may request a hearing within 30 days of publication of this notice in accordance with 19 CFR 351.310(c). Any hearing, if requested, will be held on May 17, 2000, in accordance with 19 CFR 351.310(d). Interested parties may submit case briefs no later than May 8, 2000, in accordance with 19 CFR 351.309(c)(1)(i). Rebuttal briefs, which must be limited to issues raised in the case briefs, may be filed not later than May 15, 2000. The Department will issue a notice of final results of this sunset review, which will include the results of its analysis of issues raised in any such comments, no later than July 27, 2000.

This five-year (“sunset”) review and notice are in accordance with sections 751(c), 752, and 777(i)(1) of the Act.

Dated: March 20, 2000.
Richard W. Moreland,
Acting Assistant Secretary for Import Administration.

[FR Doc. 00-7386 Filed 3-24-00; 8:45 am]

BILLING CODE 3510-DS-P